DEPARTMENT OF HEALTH AND HUMAN SERVICES

Centers for Disease Control and Prevention

Statement of Organization, Functions, and Delegations of Authority

Part C (Centers for Disease Control and Prevention) of the Statement of Organization, Functions, and Delegations of Authority of the Department of Health and Human Service (45 FR 67772-76, dated October 14, 1980, and corrected at 45 FR 69296, October 20, 1980, as amended most recently at 70 FR 55859-55860, dated September 23, 2005) is amended to reflect the establishment of the Office of the Chief of Staff, Office of the Director, Centers for Disease Control and Prevention.

After the mission statement for the Office of Chief of Public Health Practice (CAR), insert the following:

Office of the Chief of Staff (CAT), The Office of the Chief of Staff (OCS) provides leadership, coordination and management of agency-wide policies and issues, directs operations for the Office of the Director, coordinates senior leadership and provides direct to the director to serve CDC and its people and ensure decisions are made in the agency's best interest. In carrying out its mission, OCS: (1) Coordinated policy and program issues across the Office of the Director (OD), coordinating centers and coordinating offices, centers, and staff offices in collaborating with the Office of Enterprise Communication (OEC); (2) provides integrated policy analysis and strategic consultation to the Director and senior leadership on major issues affecting CDC; (3) identifies, triages, supervises and tracks OD action items from start to finish in conjunction with senior leadership across CDC, specifically OEC; (4) serves as one of the Director's primary strategic liaisons with staff partners and the community at large; (5) manages budget and resources and provides operations oversight for selected staff offices within the OD; (6) directs Office of the Director operations and administration; (7) serves as a primary point of contact to select OD-level partners in conjunction with other pre-established points of contact across CDC; (8) serves as a primary point of contact with the CDC Foundation, specifically for coordination and decision support with other pre-established points of contact across CDC; (9) oversees all activities related to the Advisory Committee to the Director and its subcommittees and workgroups; (10)coordinates and manages select activities between CDC and the Department of Health and Human Services; (11) manages senior staff with the OD such as staff on long-term training, details, intergovernmental personnel actions, etc.; (12) manages the Executive Leadership Board (ELB) and CIO Leadership Council (CLC), inclusive of preparing for and conducting ELB and CLC meetings and identifying, triaging, supervising and tracking action items stemming from ELB and CLC meetings; (13) provides senior management information, as necessary, to make timely strategic and operational decisions; (14) manages OD-level special events and VIP visits; (15) coordinates and manages implementation of the Freedom of Information Act for CDC, including receiving and tracking requests and composing responses.

Dated: September 29, 2005.
William H. Gimson,
Chief Operating Officer, Centers for Disease Control and Prevention (CDC).

[FR Doc. 05-20056 Filed 10-5-05; 8:45 am]

BILLING CODE 4160-18-M